ENVIRONMENTAL PROTECTION AGENCY

[FRL-9104-4]

Clean Water Act Section 303(d): Call for Data for the Illinois River Watershed in Oklahoma and Arkansas

AGENCY: Environmental Protection Agency (EPA).

ACTION: Request for data.

SUMMARY: EPA Region 6 is developing a watershed model for the Illinois River watershed in Oklahoma and Arkansas to address nutrient water quality impairments. The results of this watershed model may be used to develop one or more total maximum daily loads (TMDLs) for the Illinois River Watershed. EPA requests that the public provide any water quality related data and information that may be relevant to the development of the Illinois River Watershed model and TMDL by March 3, 2010. In addition, EPA requests that all data submissions include the quality assurance and quality control documentation. All data submissions should be provided in an electronic format, if possible. EPA will review all data and information submitted and will consider them in the development of the model and TMDL, as appropriate.

DATES: Data and Information must be submitted in writing to EPA on or before March 3, 2010. If you anticipate that you will be providing data and information, but find it difficult to do so within the period of time allowed, you should advise the contact listed below as soon as possible.

ADDRESSES: You may submit data and Information to EPA Region 6 by e-mail or U.S. post mail. To submit your data and information by e-mail, send them to Smith.Diane@epa.gov. To submit your data and information by U.S. mail, mark them to the attention of Diane Smith, Environmental Protection Specialist, Water Quality Division, (6WQ), U.S. Environmental Protection Agency Region 6, 1445 Ross Avenue, Dallas, Texas 75202-2733.

FOR FURTHER INFORMATION CONTACT: Diane Smith, Environmental Protection Specialist, Water Quality Protection Division, U.S. EPA Region 6, 1445 Ross Avenue, Dallas, TX 75202-2733, (214) 665-2145.

SUPPLEMENTARY INFORMATION: The Illinois River is a tributary of the Arkansas River, approximately 100 mi (160 km) long, between the States of Arkansas and Oklahoma. The Illinois River rises in the Ozark Mountains in the northwest corner of Arkansas (Washington County) and flows west into northeast Oklahoma. The Oklahoma portion of the Illinois River is currently designated as a scenic river. In addition, several segments of the Illinois River are on the State of Oklahoma's 303(d) list (impaired waters list) for total phosphorus, while the main-stem Illinois River in Arkansas is not listed for total phosphorus. However, several tributaries (e.g., Osage Creek, Muddy Fork, and Spring Creek) to the Illinois River in Arkansas are currently on the Arkansas 303(d) list for total phosphorus. The purpose of this project is to develop a scientifically robust watershed model to determine the reductions in phosphorus loads that are needed to meet water quality standards in both States. This watershed model will serve as a tool to effectively identify nutrient reductions needed to ensure that water quality standards for phosphorus are protected in both States; and, to devise varying allocation and load reductions scenarios needed to guide appropriate point and non-point source controls.

Specifically, EPA is soliciting technical information on measurements of nutrients and related constituents in surface waters, and all associated information needed to support development of the Illinois River Watershed model and one or more planned TMDLs. Examples of data requested include:

1. Monitoring data of nutrients, sediment, flow, water temperature, dissolved oxygen and organics (oxygen demand) for any locations within the Illinois River watershed, including the main-stem, its tributaries and other water-bodies.

2. Watershed land use/land cover characteristics, including topography, hydrography, drainage patterns, soils, cropping patterns, and other potential nutrient sources. GIS (geographic information system) coverage is preferred for this type of spatial data.

3. Precipitation and meteorological data, including evaporation, air temperature, wind movement, solar radiation, dew-point temperature, and cloud cover. Daily data for the 1980-2010 time periods is needed. Precipitation data at shorter time intervals, (e.g., hourly or 15-minute) is needed for some locations to provide adequate coverage and definition of rainfall patterns across the watershed.

4. Hydrography and geomorphological data for channels and major water-bodies, including channel lengths and slopes, cross-sections and geometry, bed composition (sediment particle sizes, nutrients), stage/storage/surface area information, etc. Prior flood insurance and associated modeling studies would be useful.

5. Other nutrient source information and/or water quality assessments specifically addressing wastewater discharges, agricultural water diversions and/or agricultural return flows, water supply intake structures, and information regarding the distribution, population and locations of feedlots, pastures, cattle and poultry houses.

6. Prior investigations and modeling studies that analyze monitoring data, describe agronomic and poultry practices, estimate nonpoint source loading rates for nutrients by source category, assess water quality impacts and/or biotic endpoints for any sites within the watershed.

Dated: January 11, 2010.
Troy C. Hill,
Acting Director, Water Quality Protection Division, EPA Region 6.

[FR Doc. 2010-829 Filed 1-15-10; 8:45 am]

BILLING CODE 6560-50-P